DEPARTMENT OF DEFENSE

Department of the Air Force

Notice Is Given of the Names of Members of the Performance Review Board for the Department of the Air Force

AGENCY: Department of the Air Force, DOD.

ACTION: Notice.

SUMMARY: Notice is given of the names of members of the Performance Review Board for the Department of the Air Force.

DATES: Effective Date: November 3, 2014.

SUPPLEMENTARY INFORMATION: Pursuant to 5 U.S.C. 4314(c) (1-5), the Department of the Air Force (AF) announces the appointment of members to the AF's Senior Executive Service (SES) Performance Review Board (PRB). Appointments are made by the authorizing official. Each board member shall review and evaluate performance scores provided by the SES' immediate supervisor. Performance standards must be applied consistently across the AF. The board will make final recommendations to the authorizing official relative to the performance of the executive.

The members of the 2014 Performance Review Board for the U.S. Air Force are:

1. Board President—Gen Selva, Commander, United States Transportation Command.

2. Honorable Eric Fanning, Under Secretary of the Air Force.

3. Gen Spencer, Vice Chief of Staff of the Air Force.

4. Lt Gen Litchfield, Commander, Air Force Sustainment Center.

5. Lt Gen Greaves, Commander, Space & Missile Systems Center.

6. Mr. Corsi, Assistant Deputy Chief of Staff for Manpower, Personnel and Services.

7. Mr. McMillin, Auditor General of the Air Force.

8. Ms. Thomas, Deputy Chief Management Officer of the Air Force.

9. Ms. Salazar, Deputy Chief, Information Dominance and Deputy Chief Information Officer.

10. Mr. Gill, Executive Director, Air Force Materiel Command.

11. Mr. Sitterly, Principal Deputy Assistant Secretary of the Air Force for Manpower and Reserve Affairs.

12. Mr. Lombardi, Principal Deputy Assistant Secretary of the Air Force (Acquisition).

13. Ms. Watern, Deputy Assistant Secretary for Cost and Economics.

14. Ms. Rooney, Director, Intelligence Systems Support Office.

15. Mr. Callicutt, Director, Capability and Resource Integration, United States Strategic Command.

Additionally, all career status Air Force Tier 3 SES members not included in the above list are eligible to serve on the 2014 Performance Review Board and are hereby nominated for inclusion on an ad hoc basis in the event of absence(s).

FOR FURTHER INFORMATION CONTACT: Please direct any written comments or requests for information to Dr. Daramia Hinton, Deputy Director, Senior Executive Management, AF/DPS, 1040 Air Force Pentagon, Washington DC, 20330-1040 (PH: 703-695-7677; or via email at daramia.t.hinton.civ@mail.mil.).

Henry Williams,
Acting Air Force Federal Register Liaison Officer.

[FR Doc. 2014-24103 Filed 10-8-14; 8:45 am]

BILLING CODE 5001-10-P